DEPARTMENT OF JUSTICE

Bureau of Alcohol, Tobacco, Firearms and Explosives

[Docket No. ATF 12N; ATF O 1120.4]

Delegation Order—Authority To Make Determinations on Applications for Relief From Federal Firearms and/or Explosives Disabilities

1. Purpose. This order delegates certain authorities of the Director to subordinate Bureau of Alcohol, Tobacco, Firearms and Explosives (ATF) officials to make determinations on applications for relief from Federal firearms and/or explosives disabilities.

2. Cancellation. This order cancels ATF 1100.75C, Delegation Order—Authority to Make Determinations on Applications for Restoration of Federal Firearms and/or Explosives Privileges, dated 9/17/2003.

3. Delegations. Under the authority vested in the Director, ATF, by Department of Justice Final Rule [AG Order No. 2650-2003] as published in the Federal Register on January 31, 2003, and by Title 28 CFR 0.130 and 0.131, the following authorities are delegated:

a. Firearms. The Assistant Director (Enforcement Programs and Services) is to make determinations on applications for relief from Federal firearms disabilities.

b. Explosives. The Chief, Arson and Explosives Programs Division, is to make determinations on applications for relief from Federal explosives disabilities.

4. Redelegation. The authorities outlined in paragraphs 3.a. and 3.b. above, may not be redelegated.

5. Questions. Questions regarding this order should be addressed to the Chief, Firearms Programs Division at 202-927-7770, or the Chief, Arson and Explosives Programs Division at 202-927-7930.

Date Signed: September 1, 2004.
Carl J. Truscott,
Director.

[FR Doc. 04-20636 Filed 9-13-04; 8:45 am]

BILLING CODE 4410-FY-P